ENVIRONMENTAL PROTECTION AGENCY

[FRL-9117-7]

EPA Science Advisory Board Staff Office Notification of a Meeting of the Ecological Effects Subcommittee of the Advisory Council on Clean Air Compliance Analysis (Council)

AGENCY: Environmental Protection Agency (EPA).

ACTION: Notice.

SUMMARY: The EPA Science Advisory Board (SAB) Staff Office announces a public meeting of the Ecological Effects Subcommittee (EES) of the Advisory Council on Clean Air Compliance Analysis (Council). The EES, supplemented with additional members from the Science Advisory Board and the Clean Air Scientific Advisory Committee, will review draft documents regarding ecological effects of modeled air quality scenarios developed to support the Second Section 812 Benefit-Cost Analysis of the Clean Air Act. The assessment of ecological effects has been developed in support of the Office of Air and Radiation's Second Section 812 Prospective Analysis of the benefits and costs of the Clean Air Act.

DATES: The EES augmented with additional experts will meet on Tuesday, March 9, 2010 and Wednesday, March 10, 2010, beginning at 8:30 a.m. and ending no later than 5 p.m. (Eastern Time), each day.

ADDRESSES: The public meeting will be held at the SAB Conference Center at 1025 F Street, NW., Suite 3700, Washington, DC 20004.

FOR FURTHER INFORMATION CONTACT: Members of the public who wish to obtain further information about this meeting may contact Ms. Stephanie Sanzone, Designated Federal Officer (DFO), EPA Science Advisory Board Staff Office (1400F), U.S. Environmental Protection Agency, 1200 Pennsylvania Avenue, NW., Washington, DC 20460; by telephone/voice mail: (202) 343-9697 or at sanzone.stephanie@epa.gov. General information about the Council may be found on the Council Web site at: http://www.epa.gov/advisorycouncilcaa.

SUPPLEMENTARY INFORMATION: Background: Pursuant to the Federal Advisory Committee Act, 5 U.S.C., App. 2 (FACA), notice is hereby given that the Ecological Effects Subcommittee (EES) of the Advisory Council on Clean Air Compliance Analysis (Council), augmented with additional experts, will hold a public meeting to evaluate draft documents regarding ecological effects of modeled air quality scenarios developed to support the Second Section 812 Benefit-Cost Analysis of the Clean Air Act. The Council was established in 1991 pursuant to the Clean Air Act (CAA) Amendments of 1990 (42 U.S.C. 7612) to provide advice, information and recommendations on technical and economic aspects of analyses and reports EPA prepares on the impacts of the CAA on the public health, economy, and environment of the United States. The Council is a Federal Advisory Committee chartered under FACA. The EES will provide advice through the Council and will comply with the provisions of FACA and all appropriate SAB Staff Office procedural policies.

Pursuant to Section 812 of the 1990 Clean Air Act Amendments (CAAA), EPA conducts periodic studies to assess benefits and costs of the EPA's regulatory actions under the Clean Air Act. The Council has provided advice on an EPA retrospective study published in 1997 and an EPA prospective study completed in 1999. EPA initiated a second prospective study to evaluate the benefits and costs of EPA Clean Air programs for years 1990-2020. The Council has previously provided advice on the analytical blueprint for this study. EPA's Office of Air and Radiation (OAR) is now nearing completion of the analytical work for the second prospective study.

At the March 9 and 10, 2010 meeting, the EES will review draft technical documents pertaining to ecological effects associated with air quality scenarios developed using the Community Multiscale Air Quality (CMAQ) model for seven emissions scenarios: a 1990 baseline simulation; and simulations for 2000, 2010 and 2020 with and without the CAAA. The draft documents compare simulated pollutant exposures with the distribution of sensitive ecosystems in the United States to assess ecosystems at risk from acidic deposition, total nitrogen deposition, and tropospheric ozone concentrations. In addition, the draft documents present case studies on benefits of the CAAA for recreation fishing and the timber industry in the Adirondack Region of New York State. Chapter 4 of the draft Benefits Analyses to Support the Second Section 812 Benefit-Cost Analysis describes the estimation of the physical effects of the air quality scenarios for ozone on agriculture and commercial forestry.

OAR is requesting that the EES review the data choices, methodological choices for analyzing the data, and the overall validity and utility of the estimated changes in ecological effects from air pollution between the with-CAAA90 and without-CAAA90 scenarios. The following documents are provided to the EES: (1) Effects of Air Pollutants on Ecological Resources: Literature Review and Case Studies. Draft Report, February 2010. Prepared by Industrial Economics, Inc., for James DeMocker, EPA Office of Policy Analysis and Review; and (2) Benefits Analyses to Support the Second Section 812 Benefit-Cost Analysis of the Clean Air Act, Draft. Chapter 4: Agricultural and Forest Productivity Benefits. Draft Report, February 2010. Prepared by Industrial Economics, Inc., for the EPA Office of Air and Radiation.

Technical Contacts: The Office of Air and Radiation technical contact for the Second Section 812 Benefit-Cost Analysis of the Clean Air Act is Mr. Jim DeMocker at (202) 564-1673 or democker.jim@epa.gov.

Availability of Meeting Materials: EPA draft documents provided to the EES are available at http://www.epa.gov/oar/sect812/prospective2.html.

The meeting agenda for March 9 and 10, 2010 and any background materials will be posted on the Council Web site http://www.epa.gov/advisorycouncilcaa prior to the meeting.

Procedures for Providing Public Input: Interested members of the public may submit relevant written information on the group conducting the activity or written or oral information for the EES to consider on the topics of this advisory activity. Oral Statements: In general, individuals or groups requesting an oral presentation at a public meeting will be limited to five minutes per speaker, with no more than one hour for all speakers. Interested parties should contact Ms. Sanzone at the contact information provided above by March 2, 2010, to be placed on the public speaker list for the March 9 and 10, 2010 meeting. Written Statements: Written statements should be received in the SAB Staff Office by March 2, 2010, so that the information may be made available to the EES for their consideration prior to the meeting. Written statements should be supplied to Ms. Sanzone in the following formats: one hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 343-9697, or via e-mail at sanzone.stephanie@epa.gov, preferably at least ten (10) days prior to the meeting, to give EPA as much time as possible to process your request.

Dated: February 18, 2010.
Vanessa T. Vu,
Director, EPA Science Advisory Board Staff Office.

[FR Doc. 2010-3723 Filed 2-23-10; 8:45 am]

BILLING CODE 6560-50-P